NUCLEAR REGULATORY COMMISSION

[Docket No. EA-22-038; NRC-2022-0112]

Order Suspending General License Authority To Export Radioactive Material and Deuterium to the Russian Federation

AGENCY: Nuclear Regulatory Commission.

ACTION: Order; issuance.

SUMMARY: The U.S. Nuclear Regulatory Commission (NRC) is issuing an Order suspending the general license authority under NRC regulations to export radioactive material, and deuterium for nuclear end use, to the Russian Federation. Exporters are no longer authorized to use the general license to export radioactive material, or deuterium for nuclear end use, to the Russian Federation and now must apply for a specific license pursuant to NRC regulations.

DATES: This Order takes effect immediately.

ADDRESSES: Please refer to Docket ID NRC-2022-0112 when contacting the NRC about the availability of information regarding this document. You may obtain publicly available information related to this document using any of the following methods:

• Federal Rulemaking Website: Go to https://www.regulations.gov and search for Docket ID NRC-2022-0112. Address questions about Dockets IDs in Regulations.gov to Stacy Schumann; telephone: 301-415-0624; email: Stacy.Schumann@nrc.gov. For technical questions, contact the office listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Office of International Programs, U.S. Nuclear Regulatory Commission, Washington, DC 20555-0001, telephone: 301-287-9241, email: IP.Resource@nrc.gov.

SUPPLEMENTARY INFORMATION: The text of the Order is attached.

Dated: May 12, 2022.
For the Nuclear Regulatory Commission.
Nader L. Mamish,
Director, Office of International Programs.

Attachment—Order

In the Matter of General License Holders—EA-22-038

Order Suspending General License Authority To Export Radioactive Material and Deuterium to the Russian Federation (Effective Immediately)

The licensees that are subject to this order are authorized by the NRC through the general licenses granted in sections 110.21 through 110.24 of title 10 of the Code of Federal Regulations (CFR), pursuant to Sections 54, 64, 82, and 109b of the Atomic Energy Act of 1954, as amended (AEA), to export radioactive material, and deuterium for nuclear end use, to the Russian Federation.

The Executive Branch has determined that exports of radioactive material, and of deuterium for nuclear end use, to the Russian Federation under these 10 CFR part 110 general licenses would be inimical to the common defense and security of the United States. For this reason, the Executive Branch has requested that the NRC suspend the general license authority in 10 CFR 110.21 through 110.24 for any exports of radioactive material and deuterium for nuclear end use to the Russian Federation. It is the view of the Executive Branch that this action is necessary to further the national security interests of the United States and to enhance the United States common defense and security and is consistent with the Atomic Energy Act of 1954, as amended. Accordingly, pursuant to Sections 161b., 161i., 183, and 186 of the AEA, and 10 CFR 110.20(b) and (f) and 10 CFR 110.50(a)(1) and (2), NRC general license authority to export radioactive material, and deuterium for nuclear end use, to the Russian Federation under Sections 54, 64, 82 and 109b of the AEA and 10 CFR 110.21 through 110.24 is suspended, effective immediately. This suspension will remain in effect until further notice. Any person wishing to export radioactive material, or deuterium for nuclear end use, to the Russian Federation must apply for a specific license in accordance with 10 CFR 110.31.

Dated: May 12, 2022.

For the Nuclear Regulatory Commission.

/RA/

Nader L. Mamish, Director,

Office of International Programs.

[FR Doc. 2022-10565 Filed 5-16-22; 8:45 am]

BILLING CODE 7590-01-P